DEPARTMENT OF COMMERCE

International Trade Administration

[A-533-824, A-583-837]

Polyethylene Terephthalate Film from India and Taiwan: Extension of Time Limits for Preliminary and Final Results of the Second Antidumping Duty Sunset Reviews

AGENCY: Import Administration, International Trade Administration, Department of Commerce.

DATES: Effective Date: July 29, 2013.

FOR FURTHER INFORMATION CONTACT: Jun Jack Zhao or Jacky Arrowsmith at 202-482-1396 or 202-482-5255, respectively, AD/CVD Operations, Office 6, Import Administration, International Trade Administration, U.S. Department of Commerce, 14th Street and Constitution Avenue NW., Washington, DC 20230.

Background

On April 2, 2013, the Department of Commerce (the Department) initiated the second sunset reviews of the antidumping duty (AD) orders on polyethylene terephthalate film (PET Film) from India and Taiwan, pursuant to section 751(c) of the Tariff Act of 1930, as amended (the Act). See Initiation of Five-Year (“Sunset”) Review, 78 FR 19647 (April 2, 2013). Within the deadline specified in 19 CFR 351.218(d)(1)(i), the Department received notices of intent to participate, in both sunset reviews, on behalf of DuPont Teijin Films, Mitsubishi Polyester Film, Inc., and SKC, Inc. (collectively, domestic interested parties). Each claimed interested party status under section 771(9)(C) of the Act, as a producer of domestic like product. The Department received timely substantive responses from these domestic interested parties. On April 22, 2013, after analyzing the substantive responses of interested parties, consistent with 19 CFR 351.218(e)(1)(ii)(A), the Department determined to conduct expedited sunset reviews of these AD orders on the basis that no respondent interested party submitted a substantive response in either review. See Letter to Catherine DeFilippo, Director, Office of Investigations, International Trade Commission, regarding “Sunset Reviews Initiated on April 2, 2013,” (April 22, 2013).

On February 14, 2012, the Department published in the Federal Register a notice entitled Antidumping Proceedings: Calculation of the Weighted-Average Dumping Margin and Assessment Rate in Certain Antidumping Duty Proceedings; Final Modification, 77 FR 8101 (February 14, 2012) (Final Modification for Reviews). In that notice, the Department announced the modification of its methodology regarding the calculation of the weighted-average dumping margins in certain segments of antidumping duty proceedings and stated that it would apply to all sunset reviews for which preliminary or final results were due more than 60 days after publication (i.e., April 16, 2012). On July 22, 2013, the Department reconsidered its determination to conduct expedited sunset reviews of these orders and determined to conduct full sunset reviews of the AD orders on PET Film from India and Taiwan.¹ The preliminary results of these full sunset reviews are currently due July 22, 2013 ² and the final results are due November 27, 2013.

¹ See Memorandum to Christian Marsh, Deputy Assistant Secretary for Antidumping and Countervailing Duty Operations, from Mark Hoadley, Acting Director, Antidumping and Countervailing Duty Operations, Office 6, regarding “Sunset Reviews of the Antidumping Duty Orders on Polyethylene Terephthalate Film from India and Taiwan: Adequacy Redetermination Memorandum,” (July 22, 2013).

² As the actual due date of July 20, 2013 falls on a Saturday, the preliminary results are due the next business day, i.e., July 22, 2013. See Notice of Clarification: Application of “Next Business Day” Rule for Administrative Determination Deadlines Pursuant to Tariff Act of 1930, As Amended, 70 FR 24533 (May 10, 2005).

Extension Of Time Limits

In accordance with section 751(c)(5)(B) of the Act, the Department may extend the period of time for making its determination by not more than 90 days, if it determines that the sunset review is extraordinarily complicated. We determine that these AD sunset reviews are extraordinarily complicated, pursuant to section 751(c)(5)(C)(i) and (ii) of the Act, because of the need to consider the effect of the Final Modification for Reviews on the determinations the Department must make with regard to both the likelihood of dumping to continue or recur and the magnitude of the margin of dumping to prevail if the orders were revoked. See Adequacy Redetermination Memorandum.

Accordingly, the Department is extending the deadlines for both the preliminary and final results of these full sunset reviews by 90 days. As a result, the Department intends to issue the preliminary results of these full sunset reviews of the AD orders on PET Film from India and Taiwan no later than October 18, 2013, and the final results of the reviews no later than February 25, 2014.

This notice is issued in accordance with sections 751(c)(5)(B) and (C) of the Act.

Dated: July 22, 2013.
Christian Marsh,
Deputy Assistant Secretary for Antidumping and Countervailing Duty Operations.

[FR Doc. 2013-18161 Filed 7-26-13; 8:45 am]

BILLING CODE 3510-DS-P